DEPARTMENT OF TRANSPORTATION

14 CFR Part 71

[Docket No. FAA-2019-0972; Airspace Docket No. 19-ANM-30]

RIN 2120-AA66

Correction of Class E Airspace; Mountain Home, ID

AGENCY: Federal Aviation Administration (FAA), DOT.

ACTION: Final rule, correction.

SUMMARY: This action removes exclusionary language from the Final Rule published in the Federal Register on March 31, 2020 for Mountain Home Municipal Airport's Class E airspace extending upward from 700 feet above the surface. If the exclusionary language remains in the Final Rule, the FAA's Aeronautical Information Service will be required to recalculate the airport's airspace boundaries whenever Mountain Home Air Force Base's Class D and E Surface areas are modified. However, the removal of the language does not affect the charted boundaries or operating requirements of the airspace.

DATES: Effective 0901 UTC, July 16, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class E airspace at Mountain Home Municipal Airport, Mountain Home, ID, to ensure the safety and management of Instrument Flight Rules (IFR) operations at the airport.

History

The FAA included exclusionary language in the Final Rule that becomes effective on July 16, 2020 (85 FR 17744, March 31, 2020). This action will update the language in the final rule, but will not affect the airspace's charted boundaries.

Class E5 airspace designations are published in paragraph 6005 of FAA Order 7400.11D, dated August 8, 2019, and effective September 15, 2019, which is incorporated by reference in 14 CFR 71.1. The Class E airspace designation listed in this document will be published subsequently in the Order.

Availability and Summary of Documents for Incorporation by Reference

This document amends FAA Order 7400.11D dated August 8, 2019, and effective September 15, 2019. FAA Order 7400.11D is publicly available as listed in the ADDRESSES section of this document. FAA Order 7400.11D lists Class A, B, C, D, and E airspace areas, air traffic service routes, and reporting points.

The Rule

The FAA is amending Title 14, Code of Federal Regulations (14 CFR) part 71 by removing the exclusionary language from Mountain Home Municipal Airport's Class E airspace extending upward from 700 feet above the surface. If the exclusionary language is not removed, it will require the FAA's Aeronautical Information Service to recalculate the Municipal Airport's airspace boundaries whenever changes occur to Mountain Home Air Force Base's surface areas but will not affect the airspace's charted boundaries.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6005 Class E Airspace Areas Extending Upward From 700 Feet or More Above the Surface of the Earth.

* * * * *

ANM ID E5 Mountain Home, ID [New]

Mountain Home Municipal Airport, ID

(Lat. 43°07′54″ N, long. 115°43′50″ W)

That airspace extending upward from 700 feet above the surface within a 5.5-mile radius of the airport, and within 2 miles each side of the 300° bearing from the airport, extending from the 5.5-mile radius to 8 miles northwest of the airport; and that airspace extending upward from 1,200 feet above the surface within a 20-mile radius of the Mountain Home Municipal Airport.

Issued in Seattle, Washington, on May 14, 2020.
Shawn M. Kozica,
Group Manager, Operations Support Group, Western Service Center.

[FR Doc. 2020-10854 Filed 5-19-20; 8:45 am]

BILLING CODE 4910-13-P